DEPARTMENT OF VETERANS AFFAIRS

Medical Research Service Merit Review Committee, Notice of Meetings

The Department of Veterans Affairs gives notice under the Federal Advisory Committee Act, 5 U.S.C. App., of the following meetings to be held from 8 a.m. to 5 p.m. as indicated below:

Subcommittee for— | Date | Location
Aging & Clinical Geriatrics | March 19, 2001 | Holiday Inn Central.
Endocrinology | March 19-20, 2001 | Holiday Inn Central.
Hematology | March 21, 2001 | Holiday Inn Central.
Nephrology | March 22, 2001 | Holiday Inn Central.
Epidemiology | March 23, 2001 | Holiday Inn Central.
Alcohol & Drug Dependence | March 26, 2001 | Radisson Barcelo.
Respiration | March 26, 2001 | Radisson Barcelo.
Surgery | March 26, 2001 | Radisson Barcelo.
Neurobiology-C | March 29, 2001 | Holiday Inn Central.
General Medical Science | April 5-6, 2001 | The Virginian Suites.
Gastroenterology | April 9, 2001 | Holiday Inn Central.
Cardiovascular Studies | April 13, 2001 | Holiday Inn Central.
Oncology | April 16-17, 2001 | Radisson Barcelo.
Neurobiology-D | April 17-18, 2001 | Radisson Barcelo.
Immunology | April 17-18, 2001 | Governor's House.
Infectious Diseases | April 19-20, 2001 | The Virginian Suites.
Mental Hlth & Behav Sc | April 19-20, 2001 | Four Points Sheraton.
Medical Research Service Merit | June 7, 2001 | Holiday Inn Central.
Review Committee
The addresses of the hotels are:
Four Points Sheraton, 1201 K Street, NW, Washington, DC 20005.
Governor's House, 1615 Rhode Island Avenue, NW, Washington, DC 20036.
Holiday Inn Central, 1501 Rhode Island Avenue, NW, Washington, DC 20005.
Radisson Barcelo, 2121 P Street, NW., Washington, DC 20037.
The Virginian Suites, 1500 Arlington Boulevard, Arlington, VA 22209.

These subcommittee meetings are for the purpose of evaluating the scientific merit of research conducted in each specialty by Department of Veterans Affairs (VA) investigators working in VA Medical Centers and Clinics.

The subcommittee meetings will be open to the public for approximately one hour at the start of each meeting to discuss the general status of the program. The remaining portion of each subcommittee meeting will be closed to the public for the review, discussion, and evaluation of initial and renewal projects.

The closed portion of the meetings involves discussion, examination, reference to, and oral review of site visits, staff and consultant critiques of research protocols and similar documents. During this portion of the subcommittee meetings, discussion and recommendations will deal with qualifications of personnel conducting the studies, the disclosure of which would constitute a clearly unwarranted invasion of personal privacy, as well as research information, the premature disclosure of which could significantly frustrate implementation of proposed agency action regarding such research projects.

As provided by subsection 10(d) of Public Law 92-463, as amended by Public Law 94-409, closing portions of these subcommittee meetings is in accordance with 5 U.S.C. 552b(c)(6) and (9)(B). Those who plan to attend or would like to obtain a copy of minutes of the subcommittee meetings and rosters of the members of the subcommittees should contact Dr. LeRoy Frey, Chief, Program Review Division, Medical Research Service, Department of Veterans Affairs, Washington, DC, (202) 408-3630.

Dated: February 15, 2001.
By Direction of the Secretary.
Erwin Huelsewede,
Committee Management Officer.

[FR Doc. 01-4635 Filed 2-23-01; 8:45 am]

BILLING CODE 8320-01-M